DEPARTMENT OF THE INTERIOR

National Park Service

[N6567; NPS-WASO-NAGPRA-NPS0041191; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects, sacred objects, and/or objects of cultural patrimony and that have a cultural affiliation with the Indian Tribes or Native Hawaiian organizations in this notice.

DATES: Repatriation of the cultural items in this notice may occur on or after October 29, 2025.

ADDRESSES: Send additional, written requests for repatriation of the cultural items in this notice to Elise-Alexandria Green, Sonoma State University, 1801 East Cotati Avenue, Rohnert Park, CA 94928, email greeneli@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A total of 1,846 cultural items have been requested for repatriation. Of the cultural items being requested 1,746 lots are unassociated funerary objects and 100 lots are sacred objects.

A total of 25 lots of unassociated funerary objects were donated to Sonoma State University by Robert Rausch in 1978. The items were removed from CA-MRN-0045 near Tiburon, California in Marin County. The items include flaked stone tools, debitage, ground stone tools, historic material, and unmodified faunal bone. The cultural items have been at Sonoma State University since their donation.

A total of four lots of sacred objects were removed from the Lawson's Landing, Jackson's site #4 in Dillon Beach, California in Marin County. No additional information was located on why the items were removed from the site. The cultural items include unmodified faunal bone and have been at Sonoma State University since 1981.

A total of one lot of sacred objects was removed from CA-MRN-151, California in Marin County. No additional information was located on why the items were removed from the site. The lot of items are flaked stone and have been at Sonoma State University since 1991.

A total of 11 lots of sacred objects were removed from CA-MRN-80, near San Rafael, California in Marin County. The items were removed for their location during a test augering project for the Marin County Water District. The items include flaked stone, debitage, unmodified faunal bone, and unmodified shell. The cultural items have been at Sonoma State University since 1991.

A total of 806 lots of unassociated funerary objects were removed from CA-MRN-673, in Tomales, California in Marin County. The cultural items were removed from the site during a cultural resource survey of the area by Tom Origer & Associates for the Tomales Village Community Services District. The purpose of the investigation was to determine if the site fit the criteria for the National Register of Historic Places or the California Register of Historic Places. The cultural items include flaked stone tools, debitage, ground stone tools, historic material, unmodified faunal bone, and unmodified shell. The cultural items have been at Sonoma State University since 2006.

A total of 515 lots of unassociated funerary objects were removed from CA-MRN-150 in Novato, California in Marin County. These cultural items were removed from the site during a PG&E project to remove an abandoned segment of pipeline that laid within the northern boundary of the site. Recovery of the cultural items were collected to evaluate the site's eligibility for both California Register of Historical Resources and National Register of Historical Places. The items include flaked stone tools, debitage, ground stone tools, historic material, unmodified faunal bone, and unmodified shell. The cultural items have been at Sonoma State University since 2013.

A total of one lot of sacred objects was removed from the Russian River Marin Water Project in Marin County California. No additional information was located on why the cultural items were removed from the site. The lot of cultural items are flaked stone and have been at Sonoma State University since 1973.

A total of two lots of sacred objects were removed from the Point Reyes Beach Site located in Marin County California. No additional information was located on why the items were removed from the site. The cultural items are flaked stone and have been at Sonoma State University since 1976.

A total of one lot of sacred objects was removed from CA-MRN-372, near Bolinas, California in Marin County. No additional information was located on why the cultural items were removed from the site. The lot of cultural items are flaked stone and have been at Sonoma State University since 1984.

A total of 400 lots of unassociated funerary objects were removed from CA-MRN-124, near Santa Venetia, California in Marin County. All documentation for this collection was not located during inventory verification, so no additional information was available on why the cultural items were removed from the site. The cultural items include modified faunal bone, modified shell, charcoal, clay, flaked stone lithics, debitage, unmodified faunal bone, ground stone tools, gravel, historic material, modified flaked stone tools, organic/seeds, petrified wood, projectile points, unmodified shell, and soil. The cultural items have been at Sonoma State University since 1970.

A total of three lots of sacred objects were removed from CA-MRN-532 and CA-MRN-534H, near San Rafael, California in Marin County. No additional information was available on why the items were removed from the site. The cultural items are unmodified faunal bone and unmodified shell and have been at Sonoma State University since 1986.

A total of 77 lots of sacred objects were removed from CA-MRN-601, near Novato, California in Marin County. No additional information was available on why the items were removed from the site. The lots of items are flaked stone debitage, unmodified faunal bone, and historic material and have been at Sonoma State University since 1992.

In the case of missing cultural items, any additional items when located will also be repatriated from the collections discussed above. Based on records concerning the cultural items and the institution in which they are housed, there is no evidence of the items being treated with hazardous substances.

Determinations

The Sonoma State University has determined that:

• The 1,746 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 100 lots of sacred objects described in this notice are specific ceremonial objects needed by a traditional Native American religious leader for present-day adherents to practice traditional Native American religion, according to the Native American traditional knowledge of a lineal descendant, Indian Tribe, or Native Hawaiian organization.

• There is a connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 29, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: September 18, 2025.
Melanie O'Brien,
Manager, National NAGPRA Program.

[FR Doc. 2025-18861 Filed 9-26-25; 8:45 am]

BILLING CODE 4312-52-P